SMALL BUSINESS ADMINISTRATION

[Declaration of Disaster #3642]

Commonwealth of Virginia; Amendment #1

In accordance with a notice received from the Department of Homeland Security—Federal Emergency Management Agency—effective October 26, 2004, the above numbered declaration is hereby amended to include Botetourt County as a disaster area due to damages caused by severe storms and flooding from the remnants of Hurricane Jeanne occurring on September 27, 2004, and continuing. All other counties contiguous to the above named primary county have previously been declared.

All other information remains the same, i.e., the deadline for filing applications for physical damage is December 17, 2004, and for economic injury the deadline is July 18, 2005.

(Catalog of Federal Domestic Assistance Program Nos. 59002 and 59008.)

Dated: October 27, 2004.
Herbert L. Mitchell,
Associate Administrator for Disaster Assistance.

[FR Doc. 04-24369 Filed 11-1-04; 8:45 am]

BILLING CODE 8025-01-P